DEPARTMENT OF COMMERCE

National Oceanic and Atmospheric Administration

[I.D. 102105B]

New England Fishery Management Council; Public Meeting

AGENCY: National Marine Fisheries Service (NMFS), National Oceanic and Atmospheric Administration (NOAA), Commerce.

ACTION: Notice of a public meeting.

SUMMARY: The New England Fishery Management Council (Council) will hold a 3-day Council meeting on November 15-17, 2005, to consider actions affecting New England fisheries in the exclusive economic zone (EEZ).

DATES: The meeting will be held on Tuesday, November 15, 2005 beginning at 8:30 a.m. and on Wednesday and Thursday, November 16 and 17, beginning at 8:30 a.m.

ADDRESSES: The meeting will be held at the Four Points by Sheraton Hotel, 35 Scudder Avenue, Hyannis, MA 02601; telephone: (508) 775-7775.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, November 15, 2005

Following introductions, the Council will receive reports from the Council Chairman and Executive Director, the NMFS Regional Administrator, Northeast Fisheries Science Center and Mid-Atlantic Fishery Management Council liaisons, NOAA General Counsel and representatives of the U.S. Coast Guard, NMFS Enforcement and the Atlantic States Marine Fisheries Commission. The Council will receive a report from its Magnuson-Stevens Committee which is seeking approval of additional NEFMC positions on bills to reauthorize the Magnuson-Stevens Fishery Conservation and Management Act. The afternoon session will consist of a report from the Groundfish Oversight Committee on the continued development of management measures for Framework Adjustment 42 to the Northeast Multispecies Fishery Management Plan (FMP). The Council will refine development of alternatives to meet Amendment 13 mortality objectives based on committee advice. Also, measures for both commercial and recreational fishermen may be discussed, including among other measures, modifications to days-at-sea, gear and possession limits for commercial vessels and modifications to bag limits, seasons and closed areas for recreational vessels. Final approval of Framework 42 measures will not be made until the January 2006 meeting.

Wednesday, November 16, 2005

During the morning session, the Council will discuss and take action on a request to NMFS for reassignment of the Dogfish/Monkfish FMP responsibilities for dogfish and monkfish. The Spiny Dogfish Committee report will follow for consideration and approval of NEFMC recommendations for spiny dogfish fishery specifications for the 2006-07 fishing year and consideration of multi-year specifications (2006-08). Specifications will likely include overall total allowable catch (TAC) levels and trip limits for spiny dogfish. Following a review of public and Advisory Panel comments and Herring Committee recommendations, the Herring Committee chairman will seek approval of a final management alternative and independent management measures for inclusion in Amendment 1 to the Herring FMP. Final management alternatives may include a limited access program for the herring fishery and a seasonal purse seine/fixed gear-only area in the inshore Gulf of Maine (GOM). Independent measures may include a proxy for maximum sustainable yield, adjustments to the herring fishery specification process, adjustments to herring management area boundaries, establishment of bycatch caps for groundfish stocks of concern, measures to address bycatch monitoring and reporting, changes to the regulatory definition of midwater trawl gear and other measures.

Thursday, November 17, 2005

The morning session will begin with the Habitat Committee's review of the Essential Fish Habitat (EFH) Omnibus Amendment topics including a summary of the deliberations of the Habitat Committee and its Advisory Panel. Following a brief open comment period for the public to discuss items relevant to Council business, but not otherwise listed on the agenda, the Scallop Committee will seek final approval of Framework Adjustment 18 to the Sea Scallop FMP. Alternatives include area rotation measures, specifications for trip and days-at-sea (DAS) allocations in 2006 and 2007, a procedure to adjust the Elephant Trunk Area in 2007 and open area allocations based on surveys of scallop biomass, an increase in the crew limits for controlled access area trip exchanges, the broken trip limit exemption program and research set aside program. In the afternoon session, the Executive Director will seek approval of Council priorities of management actions for 2006. Any other outstanding business will be addressed at the end of the day.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 21, 2005.
Emily Menashes,
Acting Director, Office of Sustainable Fisheries, National Marine Fisheries Service.

[FR Doc. E5-5959 Filed 10-26-05; 8:45 am]

BILLING CODE 3510-22-S